DEPARTMENT OF ENERGY

Federal Energy Regulatory Commission

Combined Notice of Filings #1

June 10, 2009.

Take notice that the Commission received the following exempt wholesale generator filings:

Docket Numbers: EG09-50-000.

Applicants: AES Armenia Mountain Wind, LLC.

Description: Notice of Self-certification as an Exempt Wholesale Generator of AES Armenia Mountain Wind, LLC.

Filed Date: 06/10/2009.

Accession Number: 20090610-5086.

Comment Date: 5 p.m. Eastern Time on Wednesday, July 01, 2009.

Take notice that the Commission received the following electric rate filings:

Docket Numbers: ER04-691-091.

Applicants: Midwest Independent Transmission System Operator, Inc.

Description: Midwest Independent Transmission System Operator, Inc submits response to 5/8/09 Commission's letter re additional information on, and requiring the amendment of, the Midwest ISO's compliance filing dated 12/8/08.

Filed Date: 06/05/2009.

Accession Number: 20090610-0048.

Comment Date: 5 p.m. Eastern Time on Friday, June 26, 2009.

Docket Numbers: ER09-411-000.

Applicants: Midwest Independent Transmission System Operator, Inc.

Description: Midwest Independent Transmission System Operator, Inc. submits response to 5/8/09 Commission's letter re additional information on, and requiring the amendment of, the Midwest ISO's compliance filing dated 12/12/08.

Filed Date: 06/08/2009.

Accession Number: 20090610-0051.

Comment Date: 5 p.m. Eastern Time on Monday, June 29, 2009.

Docket Numbers: ER09-1229-000.

Applicants: Niagara Mohawk Power Corporation.

Description: Niagara Mohawk Power Corporation submits letter agreement dated 10/19/89 amending transmission interconnection agreement Rate Schedule 136 with the Power Authority of the State of New York.

Filed Date: 05/29/2009.

Accession Number: 20090609-0062.

Comment Date: 5 p.m. Eastern Time on Friday, June 19, 2009.

Docket Numbers: ER09-1260-000.

Applicants: MidAmerican Energy Company.

Description: MidAmerican Energy Company submits Transmittal letter & Revised Open Access Transmission Tariff, Third Revised Volume 8.

Filed Date: 06/01/2009.

Accession Number: 20090602-0095.

Comment Date: 5 p.m. Eastern Time on Monday, June 22, 2009.

Docket Numbers: ER09-1278-000.

Applicants: AES Armenia Mountain Wind, LLC.

Description: Application of AES Armenia Mountain Wind, LLC for Acceptance of Market-Based Rate Tariff and Granting of Waivers and Blanket Authorizations re AES Armenia Mountain Wind, LLC.

Filed Date: 06/09/2009.

Accession Number: 20090610-0063.

Comment Date: 5 p.m. Eastern Time on Tuesday, June 30, 2009.

Take notice that the Commission received the following electric securities filings:

Docket Numbers: ES09-25-001.

Applicants: Southwest Power Pool, Inc.

Description: Amendment to Application of Southwest Power Pool, Inc.

Filed Date: 06/10/2009.

Accession Number: 20090610-5060.

Comment Date: 5 p.m. Eastern Time on Wednesday, June 24, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-14206 Filed 6-16-09; 8:45 am]

BILLING CODE 6717-01-P